DEPARTMENT OF COMMERCE

International Trade Administration

[A-428-846, A-201-849, A-570-093]

Refillable Stainless Steel Kegs From the Federal Republic of Germany, Mexico and the People's Republic of China: Postponement of Preliminary Determinations in the Less-Than-Fair-Value Investigations

AGENCY: Enforcement and Compliance, International Trade Administration, Department of Commerce.

DATES: Applicable March 19, 2019.

FOR FURTHER INFORMATION CONTACT: Thomas Schauer at (202) 482-0410, or Aimee Phelan at (202) 482-0697, AD/CVD Operations, Office I, Enforcement and Compliance, International Trade Administration, U.S. Department of Commerce, 1401 Constitution Avenue NW, Washington, DC 20230.

SUPPLEMENTARY INFORMATION:

Background

On October 10, 2018, the Department of Commerce (Commerce) initiated less-than-fair-value (LTFV) investigations of imports of refillable stainless steel kegs from the Federal Republic of Germany, Mexico, and the People's Republic of China.¹ Commerce exercised its discretion to toll all deadlines affected by the closure of the Federal Government from December 22, 2018, through January 28, 2019. Accordingly, the revised deadline for the preliminary determinations in these investigations is April 8, 2019.²

¹ See Refillable Stainless Steel Kegs From the People's Republic of China, the Federal Republic of Germany, and Mexico: Initiation of Less-Than-Fair-Value Investigations, 83 FR 52195 (October 16, 2018) (Initiation Notice).

² See Memorandum, “Deadlines Affected by the Shutdown of the Federal Government,” dated January 28, 2019 (Tolling Memorandum). All deadlines in this segment of the proceeding have been extended by 40 days.

Postponement of Preliminary Determinations

Section 733(b)(1)(A) of the Tariff Act of 1930, as amended (the Act), requires Commerce to issue the preliminary determination in a LTFV investigation within 140 days after the date on which Commerce initiated the investigation. However, section 733(c)(1) of the Act permits Commerce to postpone the preliminary determination until no later than 190 days after the date on which Commerce initiated the investigation if: (A) The petitioner ³ makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

³ The petitioner is the American Keg Company, LLC.

On March 8, 2019, the petitioner submitted a timely request that Commerce postpone the preliminary determinations in these LTFV investigations.⁴ The petitioner stated that it requests postponement of the preliminary determinations of these investigations to allow Commerce and the parties to fully develop and review the record and relevant issues in anticipation of the preliminary determinations.⁵

⁴ See Letters from the petitioner, “Refillable Stainless Steel Kegs from the People's Republic of China, the Federal Republic of Germany, and Mexico: Petitioner's Request to Extend Preliminary Determinations,” dated March 8, 2019 (Requests for Postponement).

⁵ See Requests for Postponement.

For the reasons stated above, and because there are no compelling reasons to deny the request, Commerce, in accordance with section 733(c)(1)(A) of the Act, is postponing the deadline for the preliminary determinations by 50 days (i.e., 190 days after the date on which these investigations were initiated plus 40 days for tolling). As a result, Commerce will issue its preliminary determinations no later than May 28, 2019. In accordance with section 735(a)(1) of the Act and 19 CFR 351.210(b)(1), the deadline for the final determinations of these investigations will continue to be 75 days after the date of publication of the preliminary determinations, unless postponed at a later date.

This notice is issued and published pursuant to section 733(c)(2) of the Act and 19 CFR 351.205(f)(1).

Dated: March 13, 2019.
Gary Taverman,
Deputy Assistant Secretary for Antidumping and Countervailing Duty Operations, performing the non-exclusive functions and duties of the Assistant Secretary for Enforcement and Compliance.

[FR Doc. 2019-05005 Filed 3-18-19; 8:45 am]

BILLING CODE 3510-DS-P